DEPARTMENT OF DEFENSE

Office of the Secretary

[Docket ID: DOD-2009-OS-0046]

Privacy Act of 1974; Systems of Records

AGENCY: Defense Finance and Accounting Service, DoD.

ACTION: Notice to add a new System of Records.

SUMMARY: The Defense Finance and Accounting Service (DFAS) proposes to add a new system of records notice to its inventory of record systems subject to the Privacy Act of 1974, (5 U.S.C. 552a), as amended.

DATES: This Action will be effective without further notice on April 23, 2009 unless comments are received that would result in a contrary determination.

ADDRESSES: Send comments to the FOIA/PA Program Manager, Corporate Communications and Legislative Liaison, Defense Finance and Accounting Service, 8899 E. 56th Street, Indianapolis, IN 46249-0150.

FOR FURTHER INFORMATION CONTACT: Ms. Linda Krabbenhoft at (720) 242-6631.

SUPPLEMENTARY INFORMATION: The Defense Finance and Accounting Service notices for systems of records subject to the Privacy Act of 1974 (5 U.S.C. 552a), as amended, have been published in the Federal Register and are available from the address above.

The proposed system report, as required by 5 U.S.C. 552a(r) of the Privacy Act of 1974, as amended, was submitted on March 16, 2009, to the House Committee on Government Reform, the Senate Committee on Governmental Affairs, and the Office of Management and Budget (OMB) pursuant to paragraph 4c of Appendix I to OMB Circular No. A-130, ‘Federal Agency Responsibilities for Maintaining Records about Individuals,’ dated December 12, 2000, 65 FR 239.

Dated: March 18, 2009.
Morgan E. Frazier,
Alternate OSD Federal Register Liaison Officer, Department of Defense.

T5040

System name:

Call Recording Application Records.

System location:

Defense Finance and Accounting Service, Cleveland, Anthony J. Celebrezze Federal Building (Room 1669), 1240 E. 9th Street, Cleveland, OH 44199-2055.

Categories of individuals covered by the system:

Current or former military service members, dependents, ex-spouses, DoD civilian employees, and non-DoD civilians paid by DFAS.

Categories of records in the system:

Audio and captured systems' screen records and their indices that will include, but not be limited to, verbatim recordings of conversations between the customers and DFAS' customer service representatives (CSR), name, SSN, home address, telephone number, payroll information, marital status, dependent information, tax status, allotment, garnishment, debt, or other payroll or personal information provided by the customer.

Authority for maintenance of the system:

5 U.S.C. 301, Departmental Regulations; E.O. 12862 (Customer Service), E.O. 9397 (SSN).

Purpose(s):

The Call Recording Application (CRA) will be used to record and index telephone conversations between customers and customer service representatives (CSRs) in DFAS' contact centers. It will also capture and index a sampling of the computer screens used by CSRs to answer inquiries. The inbound calls will be recorded in order to resolve misunderstandings or misperceptions made during the customer-CSR interaction. This system will also facilitate the process of monitoring and evaluating the recorded audio and computer screens used by CSRs in order to provide training, collect data in support of the CSRs' annual performance evaluation, and provide information used for business process improvements.

Routine uses of records maintained in the system, including categories of users and the purposes of such uses:

In addition to those disclosures generally permitted under 5 U.S.C. 552a(b) of the Privacy Act, these records or information contained therein may specifically be disclosed outside the DoD as a routine use pursuant to 5 U.S.C. 552a(b)(3) as follows:

The ‘DoD Blanket Routine Uses’ published at the beginning of the DFAS compilation of systems of records notices apply to this system.

Policies and practices for storing, retrieving, accessing, retaining, and disposing of records in the system:

Storage:

Electronic storage media.

Retrievability:

Social Security Number (SSN) and telephone number.

Safeguards:

Records are maintained in a controlled facility. Physical entry is restricted by the use of locks, guards, and is accessible only to authorized personnel. Access to records is limited to person(s) responsible for servicing the record in performance of their official duties and who are properly screened and cleared for need-to-know. Access to computerized data is restricted by passwords, which are changed periodically.

Retention and disposal:

Destroy when superseded, obsolete, or determined to be of no further value, whichever is sooner. Records are destroyed by shredding, burning, or degaussing.

System manager(s) and address:

Defense Finance and Accounting Service, Information and Technology, Anthony J. Celebrezze Federal Building, 1240 E. 9th Street, Cleveland, OH 44199-2055.

Notification procedure:

Individuals seeking to determine whether information about themselves is contained in this record system should address written inquiries to the Defense Finance and Accounting Service, Freedom of Information/Privacy Act Program Manager, Corporate Communications and Legislative Liaison, 8899 E. 56th Street, Indianapolis, IN 46249-0150.

Individuals should furnish full name, Social Security Number (SSN), current address and telephone number.

Record access procedures:

Individuals seeking access to information about themselves contained in this system should address written inquiries to Defense Finance and Accounting Service, Freedom of Information/Privacy Act Program Manager, Corporate Communications and Legislative Liaison, 8899 E. 56th Street, Indianapolis, IN 46249-0150.

Individuals should furnish full name, Social Security Number (SSN), current address and telephone number.

Contesting record procedures:

The DFAS rules for accessing records, for contesting contents and appealing initial agency determinations are published in DFAS Regulation 5400.11-R; 32 CFR part 324; or may be obtained from Defense Finance and Accounting Service, Freedom of Information/Privacy Act Program Manager, Corporate Communications and Legislative Liaison, 8899 E. 56th Street, Indianapolis, IN 46249-0150.

Record source categories:

The individual concerned.

Exemptions claimed for the system:

None.

[FR Doc. E9-6279 Filed 3-23-09; 8:45 am]

BILLING CODE 5001-06-P